INTERNATIONAL TRADE COMMISSION

[Investigation Nos. 701-TA-616-617 and 731-TA-1432-1434 (Final)]

Fabricated Structural Steel From Canada, China, and Mexico

Determinations

On the basis of the record ¹ developed in the subject investigations, the United States International Trade Commission (“Commission”) determines, pursuant to the Tariff Act of 1930 (“the Act”), that an industry in the United States is not materially injured or threatened with material injury by reason of imports of fabricated structural steel from Canada, China, and Mexico, provided for in subheadings 7308.90.95, 7308.90.30, and 7308.90.60 of the Harmonized Tariff Schedule of the United States, that have been found by the U.S. Department of Commerce (“Commerce”) to be sold in the United States at less than fair value (“LTFV”), and to be subsidized by the governments of China and Mexico.²

¹ The record is defined in sec. 207.2(f) of the Commission's Rules of Practice and Procedure (19 CFR 207.2(f)).

² Commissioners Rhonda K. Schmidtlein and Amy A. Karpel dissenting.

Background

The Commission instituted these investigations effective February 4, 2019, following receipt of petitions filed with the Commission and Commerce. The petitioner in these investigations is the American Institute of Steel Construction, LLC Full Member Subgroup, Chicago, Illinois. The final phase of the investigations was scheduled by the Commission following notification of preliminary determinations by Commerce that imports of fabricated structural steel from China and Mexico were subsidized within the meaning of section 703(b) of the Act (19 U.S.C. 1671b(b)) and sold at LTFV within the meaning of 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register on September 23, 2019 (84 FR 49765). The hearing was held in Washington, DC, on January 28, 2020, and all persons who requested the opportunity were permitted to appear in person or by counsel. On January 30, 2020, Commerce gave notice in the Federal Register of affirmative final determinations of sales at LTFV in its investigations regarding Canada, China, and Mexico, affirmative final determinations in its countervailing duty investigations regarding China and Mexico, and a negative final determination in its countervailing duty investigation concerning Canada. Accordingly, the Commission terminated its countervailing duty investigation concerning fabricated structural steel from Canada (85 FR 8321).

³ Commerce made negative preliminary determinations with respect to imports of fabricated structural steel from Canada which were alleged to be sold at LTFV (84 FR 47481) and subsidized by the government of Canada (84 FR 33232).

The Commission made these determinations pursuant to sections 705(b) and 735(b) of the Act (19 U.S.C. 1671d(b) and 19 U.S.C. 1673d(b)). It completed and filed its determinations in these investigations on March 16, 2020. The views of the Commission are contained in USITC Publication 5031 (March 2020), entitled Fabricated Structural Steel from Canada, China, and Mexico: Investigation Nos. 701-TA-616-617 and 731-TA-1432-1434 (Final).

By order of the Commission.
Issued: March 16, 2020.
Lisa Barton,
Secretary to the Commission.

[FR Doc. 2020-05845 Filed 3-19-20; 8:45 am]

BILLING CODE 7020-20-P